DEPARTMENT OF HOMELAND SECURITY

Coast Guard

33 CFR Part 151

46 CFR Part 162

[Docket No. USCG-2001-10486]

RIN 1625-AA32

Standards for Living Organisms in Ships' Ballast Water Discharged in U.S. Waters

AGENCY: Coast Guard, DHS.

ACTION: Rule; information collection approval; Correction.

SUMMARY: On June 13, 2012, the Coast Guard published in the Federal Register an announcement of effective date that announced an information collection approval for the Standards for Living Organisms in Ships' Ballast Water Discharged in U.S. Waters (BWDS) Final Rule (77 FR 35268). The rulemaking triggered new information collection requirements affecting vessel owners and their potential requests for an extension of the compliance date if they cannot practicably comply with the compliance date otherwise applicable to their vessels. The June 13, 2012, document announced that the request to revise the existing collection of information to add the new request for an extension provision was approved by the Office of Management and Budget (OMB) and may now be enforced. The OMB control number is 1625-0069. The approval for this collection of information expires on May 31, 2015.

In the June 13, 2012, document, the Coast Guard inadvertently failed to indicate that we received public submissions to the BWDS Final Rule (77 FR 17254). The Coast Guard is now publishing a document to advise the public that we received four public submissions to this collection of information. As the four public submissions were not collection of information-related, we did not revise our collection of information estimates. You may view copies of the public submissions and the Coast Guard responses to them in the BWDS docket online by going to http://www.regulations.gov, inserting USCG-2001-10486 in the “Keyword” box, and then clicking “Search.” A corrected information collection request package has been submitted to OMB for their review. The current 1625-0069 approval by OMB is still effective. If OMB decides to amend the current 1625-0069 approval, a copy of that decision will be placed in the docket.

FOR FURTHER INFORMATION CONTACT: If you have questions about this document, call or email Mr. John Morris, Project Manager, U.S. Coast Guard; telephone 202-372-1402, email environmental_standards@uscg.mil. If you have questions about viewing the docket (USCG-2001-10486), call Ms. Renee V. Wright, Program Manager, Docket Operations, telephone 202-366-9826.

Dated: September 4, 2012.
Kathryn A. Sinniger,
Chief, Office of Regulations and Administrative Law, U.S. Coast Guard.

[FR Doc. 2012-22240 Filed 9-7-12; 8:45 am]

BILLING CODE 9110-04-P